DEPARTMENT OF JUSTICE

National Institute of Corrections

Advisory Board Meeting

Time and Date: 8:30 a.m. to 5 p.m. on Monday, October 21, 2002 and 8:30 a.m. to 12 noon on Tuesday, October 22, 2002.

Place: Raintree Plaza Hotel & Conference Center (soon to be Radisson Hotel & Conference Center), 1900 Ken Pratt Boulevard, Longmont, Colorado 80501.

Status: Open.

Matters to Be Considered: Presentations on Leadership/Management Competency Project, E-Learning and Children of Offenders; division reports; Quaterlly Report by Office of Justice Programs, Health and Human Services; and updates on Interstate Compact activities and Prison Rape Research/Data.

Contact Person For More Information: Larry Solomon, Deputy Director, 202-307-3106, ext, 44254.

Morris L. Thigpen,
Director.

[FR Doc. 02-20362 Filed 8-10-02; 8:45 am]

BILLING CODE 4410-36-M